NATIONAL LABOR RELATIONS BOARD

Sunshine Act Meeting Notice

DATES AND TIME: October 17, 2017 at 1:00 p.m.

PLACE: Board Agenda Room, No. 5065, 1015 Half St. SE., Washington, DC.

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

FOR FURTHER INFORMATION CONTACT: Roxanne Rothschild, Deputy Executive Secretary, 1015 Half Street SE., Washington, DC 20570. Telephone: (202) 273-2917.

Dated: October 11, 2017.
Roxanne Rothschild,
Deputy Executive Secretary, National Labor Relations Board.

[FR Doc. 2017-22371 Filed 10-11-17; 4:15 pm]

BILLING CODE 7545-01-P